NATIONAL SCIENCE FOUNDATION

Sunshine Act Meeting

The National Science Board (NSB), pursuant to the National Science Foundation Act and the Government in the Sunshine Act hereby gives notice of the scheduling of a teleconference for the transaction of National Science Board business, as follows:

TIME AND DATE: Closed teleconference of the National Science Board, to be held Thursday, September 9, 2021, at 2:30-3:00 p.m. EDT.

PLACE: This meeting will be held by videoconference organized through the National Science Foundation.

STATUS: Closed.

MATTERS TO BE CONSIDERED: Chair's remarks; vote on transmittal to the Office of Management and Budget the FY 2023 budget submissions for the National Science Foundation, NSB, and the Office of the Inspector General.

CONTACT PERSON FOR MORE INFORMATION: Point of contact for this meeting is: Chris Blair, (703) 292-7000, cblair@nsf.gov. You may find meeting information and updates at https://www.nsf.gov/nsb/meetings/notices.jsp#sunshine.

Chris Blair,
Executive Assistant to the National Science Board Office.

[FR Doc. 2021-19007 Filed 8-30-21; 4:15 pm]

BILLING CODE 7555-01-P